DEPARTMENT OF HEALTH AND HUMAN SERVICES

National Institutes of Health

Proposed Collection; Comment Request; Aggression Prevention Among High-Risk Early Adolescents

SUMMARY: In compliance with the requirement of Section 3506(c)(2)(A) of the Paperwork Reduction Act of 1995, for opportunity for public comment on proposed data collection projects, the National Institute of Child Health and Human Development (NICHD), the National Institutes of Health (NIH) will publish periodic summaries of proposed projects to be submitted to the Office of Management and Budget (OMB) for review and approval.

Proposed Collection

Title: Aggression Prevention Among High-Risk Early Adolescents Study. Type of Information Collection Request: NEW. Need and Use of Information Collection: This study will assess the efficacy of an in-school, group-mentoring intervention designed to foster academic engagement and prevent aggressive and deviant behavior among early adolescents (approximately ages 11-12). The primary objectives of the study are to determine if participation in a weekly group-mentoring program throughout 6th grade significantly impacts adolescents' attitudes and behaviors regarding school engagement and aggression above and beyond educational materials for youth and parents. The findings will provide valuable information concerning: (1) The efficacy of in-school group-mentoring programs for improving youth attitudes, expectations, intent/motivation, and social competence; and (2) the extent to which such improvement increases academic engagement and decreases aggressive and deviant behavior among high-risk youth. Frequency of Response: six times over three years for 6th graders (i.e., fall and spring of 6th, 7th, and 8th grades), four times over three years for 6th grade parents (i.e., fall of 6th grade and spring of 6th, 7th, and 8th grades), and two times over one year for 7th and 8th graders (fall and spring of school year). Affected Public: For the pilot, incoming 6th graders from an inner city Baltimore middle school and their parents who agree to participate. For the main trial, two successive cohorts of incoming 6th grade students from two inner city Baltimore middle schools and their parents. Additionally, one cohort of 7th and 8th graders will be surveyed in the Fall and Spring of the first school year of the main trial. Type of Respondents: Early adolescents and parents. The annual reporting burden is as follows: Estimated Number of Respondents: 1280 early adolescents and 400 parents; Estimated Number of Responses per Respondent: six for early adolescents who enter study as 6th graders, two for youth who enter as 7th or 8th graders, and four for parents; Average Burden Hours Per Response: 1.0 for youth and 0.5 for parents; and Estimated Total Annual Burden Hours Requested: 2,187. The annualized cost to respondents is estimated at: $32,805 (based on $15 per hour). There are no Capital Costs to report. There are no Operating or Maintenance Costs to report.

Tye of respondents | Estimated number of respondents | Estiamted number of annual responses per respondent | Average burden hours per response | Estimated total annual burden hours requested
6th graders | 800 | 2 | 1.0 | 1,600
7th graders | 160 | .67 | 1.0 | 107
8th graders | 320 | .67 | 1.0 | 214
Parents | 400 | 1.33 | .50 | 266
Total | 1,680 |  |  | 2,187

Request for Comments

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: To request more information on the proposed project or to obtain a copy of the data collection plans and instruments, contact Dr. Bruce Simons-Morton, Chief, Prevention Research Branch, DESPR, NICHD, NIH, 6100 Executive Blvd., Room 7B13, MSC 7510, Bethesda, MD 20892-7510; (301) 493-5674; e-mail: mortonb@mail.nih.gov.

Comments Due Date

Comments regarding this information collection are best assured of having their full effect if received within 60 days of the date of this publication.

Dated: April 22, 2003.
April Burton,
Project Clearance Liaison, NICHD, National Institutes of Health.

[FR Doc. 03-10599 Filed 4-29-03; 8:45 am]

BILLING CODE 4140-01-P